DEPARTMENT OF THE INTERIOR

National Park Service

Notice of Meeting of Concessions Management Advisory Board

SUMMARY: In accordance with the Federal Advisory Committee Act (Public Law 92-463, 86 Stat. 770, 5 U.S.C. App 1, section 10), notice is hereby given that the Concessions Management Advisory Board will hold its third meeting on August 28th, in Santa Fe, New Mexico. The meeting will be held at the La Fonda on the Plaza Hotel located at 100 E. San Francisco Street, Santa Fe, New Mexico 87501. The meeting will convene at 9 a.m. and will adjourn at approximately 5:30 p.m. If additional time is needed, the meeting may be reconvened on Tuesday morning, August 29th at 9 a.m.

SUPPLEMENTARY INFORMATION: The Advisory Board was established by Title IV, Section 409 of the National Park Omnibus Management Act of 1998, November 13, 1998 (Public Law 105-391). The purpose of the Board is to advise the Secretary and the National Park Service on matters relating to management of concessions in the National Park System.

The agenda for this meeting includes the following subjects, in addition to administrative needs and issues of the Board:

Monday, August 28

9:00—Convene Business Meeting, (Call to Order/Introductions/Agenda Review/Approve Minutes

9:15—Overview of NPS Response to the GAO Report, Chief, Concession Program

10:30—Staff Report—NPS' Professionalization Strategy

11:00—BREAK

11:15—Staff Report—NPS' Professionalization Strategy (cont.)

12:00—LUNCH

1:00—Discussion of Advisory Board Charter—Handcraft Program

2:00—Update on Competitive Market Merchandising Model—Rates, How it is working

2:45—BREAK

3:00—Discussion of Outline for Report to Congress

5:00—Meeting Adjourned

The meeting will be open to the public, however, facilities and space are limited and persons will be accommodated on a first-come-first-served basis.

Assistance to Individuals with Disabilities at the Public Meeting

The meeting site is accessible to individuals with disabilities. If you plan to attend and will need an auxiliary aid or service to participate in the meeting (e.g., interpreting service, assistive listening device, or materials in an alternate format), notify the contact person listed in this notice at least 2 weeks before the scheduled meeting date. Attempts will be made to meet any request(s) we receive after that date, however, we may not be able to make the requested auxiliary aid or service available because of insufficient time to arrange for it.

Anyone may file with the Board a written statement concerning matters to be discussed. The Board may also permit attendees to address the Board, but may restrict the length of the presentations, as necessary to allow the Board to complete its agenda within the allotted time.

Interested persons may make oral/written presentations to the Commission during the business meeting or file written statements. Such requests should be made to the Director, National Park Service, attention: Manager, Concession Program at least 7 days prior to the meeting. Further information concerning the meeting may be obtained from National Park Service, Concession Program, 1849 C Street NW., Rm. 7313, Washington, DC 20240, or telephone 202/565-1210.

Draft minutes of the meeting will be available for public inspection approximately 8 weeks after the meeting, in room 7313, Main Interior Building, 1849 C Street, NW., Washington, DC.

Dated: August 1, 2000.
Robert Stanton,
Director, National Park Service.

[FR Doc. 00-20518 Filed 8-11-00; 8:45 am]

BILLING CODE 4310-70-M